DEPARTMENT OF TRANSPORTATION

Federal Aviation Administration

14 CFR Part 39

[Docket No. FAA-2020-0718; Product Identifier 2019-CE-045-AD]

RIN 2120-AA64

Airworthiness Directives; Textron Aviation Inc. Airplanes (Type Certificate Previously Held by Beechcraft Corporation)

AGENCY: Federal Aviation Administration (FAA), DOT.

ACTION: Notice of proposed rulemaking (NPRM).

SUMMARY: The FAA proposes to adopt a new airworthiness directive (AD) for certain Textron Aviation Inc. (Textron) (type certificate previously held by Beechcraft Corporation) Models F90, 65-90, 65-A90, B90, C90, H90 (T-44A), E90, 65-A90-1 (JU-21A, U-21A, RU-21A, RU-21D, U-21G, RU-21H), 65-A90-2 (RU-21B), 65-A90-3 (RU-21C), 65-A90-4 (RU-21E, RU-21H), 99, 99A, 99A (FACH), A99, A99A, B99, C99, 100, A100 (U-21F), and B100 airplanes. This proposed AD was prompted by reports of fatigue cracks in the lower forward wing fitting. This proposed AD would require a one-time inspection for the presence of washer part number (P/N) 90-380058-1 on the left-hand (LH) and right-hand (RH) lower forward wing bolt and, if applicable, removing washer P/N 90-380058-1, inspecting the wing fitting, bolt, and nut, replacing the wing fitting if it is cracked, and replacing the washer with washer P/N 90-380019-1. The FAA is proposing this AD to address the unsafe condition on these products.

DATES: The FAA must receive comments on this proposed AD by September 14, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Textron Aviation Inc., P.O. Box 7706, Wichita, KS 67277: phone: 316-517-5800; internet: https://txtav.com/. You may view this service information at the FAA, Airworthiness Products Section, Operational Safety Branch, 901 Locust St, Kansas City, MO 64106. For information on the availability of this material at the FAA, call 816-329-4148.

Examining the AD Docket

You may examine the AD docket on the internet at https://www.regulations.gov by searching for and locating Docket No. FAA-2020-0718; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Brian C. Adamson, Aerospace Engineer, Wichita ACO Branch, AIR-7K3, FAA, 1801 Airport Rd, Wichita, KS 67209; phone: 316-946-4193; fax: 316-946-4107; email: brian.adamson@faa.gov or Wichita-COS@faa.gov.

SUPPLEMENTARY INFORMATION:

Comments Invited

The FAA invites you to send any written relevant data, views, or arguments about this proposed AD. Send your comments to an address listed under the ADDRESSES section. Include “Docket No. FAA-2020-0718; Product Identifier 2019-CE-041-AD” at the beginning of your comments. The FAA will consider all comments received by the closing date and may amend this proposed AD because of those comments.

Except for Confidential Business Information (CBI) as described in the following paragraph, and other information as described in 14 CFR 11.35, the FAA will post all comments we receive, without change, to https://regulations.gov, including any personal information you provide. The FAA will also post a report summarizing each substantive verbal contact it receives about this proposed AD.

Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Brian C. Adamson, Aerospace Engineer, Wichita ACO Branch, AIR-7K3, FAA, 1801 Airport Rd, Wichita, KS 67209; phone: 316-946-4193; fax: 316-946-4107; email: brian.adamson@faa.gov or Wichita-COS@faa.gov. Any commentary that the FAA receives which is not specifically designated as CBI will be placed in the public docket for this rulemaking.

Discussion

Textron has received reports of fatigue cracks in the lower forward wing fitting on two airplanes. Investigation revealed that installing washer P/N 90-380058-1 on the wing bolt will cause a premature torque indication. This washer may have been installed as part of kit 101-4024-3 on Models F90, 65-90, 65-A90, B90, C90, H90 (T-44A), E90, 65-A90-1 (JU-21A, U-21A, RU-21A, RU-21D, U-21G, RU-21H), 65-A90-2 (RU-21B), 65-A90-3 (RU-21C), 65-A90-4 (RU-21E, RU-21H), 99, 99A, 99A (FACH), A99, A99A, B99, C99, 100, A100 (U-21F), and B100 airplanes, or as part of kit 90-4077-1 on Models 65-90, 65-A90, 65-A90-1 (JU-21A, U-21A, RU-21A, RU-21D, U-21G, RU-21H), 65-A90-2 (RU-21B), 65-A90-3 (RU-21C), 65-A90-4 (RU-21E, RU-21H), B90, C90, and E90 airplanes. Under-torque of the wing bolt causes a reduced clamping force that changes the load path reacted by the RH and LH lower forward wing fitting.

This condition, if not addressed, could result in fatigue cracks that lead to failure of the forward lower wing fitting, wing separation, and loss of airplane control.

Related Service Information Under 1 CFR Part 51

The FAA reviewed Beechcraft Mandatory Service Letter MTL-57-01, Revision 1, dated September 19, 2018. The service information contains procedures for a one-time inspection for the presence of washer P/N 90-380058-1 on the LH and RH lower forward wing bolt and, if applicable, removing washer P/N 90-380058-1; inspecting the wing fitting, bolt, and nut; replacing the wing fitting if it is cracked; and replacing the washer with washer P/N 90-380019-1. This service information is reasonably available because the interested parties have access to it through their normal course of business or by the means identified in the ADDRESSES section.

FAA's Determination

The FAA is proposing this AD because it evaluated all the relevant information and determined the unsafe condition described previously is likely to exist or develop in other products of this same type design.

Proposed AD Requirements

This proposed AD would require accomplishing the actions specified in the service information described previously.

Differences Between This Proposed AD and the Service Information

The service information specifies inspecting within 200 flight hours or 12 months, whichever occurs earlier. This proposed AD would require inspecting within the next 200 flight hours or 12 months, whichever occurs later.

The service information applies to Models A100A and A100C airplanes, and to Model F90 with S/N LA-1. This proposed AD would not apply to these airplanes because they do not have an FAA type certificate.

This proposed AD would apply to military models T-44A, JU-21A, RU-21A, RU-21B, RU-21C, RU-21D, RU-21E, RU-21H, U-21A, U-21F, U-21G, and FACH airplanes, because these models have a civil counterpart that is subject to the unsafe condition. The service information does not apply to all of these military models.

Costs of Compliance

The FAA estimates that this proposed AD would affect 1,319 airplanes of U.S. registry.

The FAA estimates the following costs to comply with this proposed AD:

Estimated Costs
Action | Labor cost | Parts cost | Cost per product | Cost on U.S. operators
Inspection for washer P/N 90-380058-1 (LH Wing Fitting) | 0.3 work-hour × $85 per hour = $25.50 | Not applicable | $25.50 | $33,634.50
Inspection for washer P/N 90-380058-1 (RH Wing Fitting) | 0.3 work-hour × $85 per hour = $25.50 | Not applicable | 25.50 | 33,634.50

The FAA estimates the following costs to do any necessary replacements that would be required based on the results of the proposed inspection. The FAA has no way of determining the number of airplanes that might need these replacements:

On-Condition Costs
Action | Labor cost | Parts cost | Cost per product
RH Wing bolt, washer, and nut removal | 8 work-hours × $85 per hour = $680 | $335 | $1,015
LH Wing bolt, washer, and nut removal | 8 work-hours × $85 per hour = $680 | 335 | 1,015
Inspection of RH Lower Forward Wing Fitting | 2 work-hours × $85 per hour = $170 | Not applicable | 170
Inspection of LH Lower Forward Wing Fitting | 2 work-hours × $85 per hour = $170 | Not applicable | 170
Removal and Replacement of P/N 50-120073-8 RH Lower Forward Wing Fitting | 150 work-hours × $85 per hour = $12,750 | 7,297.85 | 20,047.85
Removal and Replacement of P/N 50-120073-7 LH Lower Forward Wing Fitting | 150 work-hours × $85 per hour = $12,750 | 11,812.56 | 24,562.56

According to the manufacturer, some or all of the costs of this proposed AD may be covered under warranty, thereby reducing the cost impact on affected individuals. The FAA does not control warranty coverage for affected individuals. As a result, the FAA has included all costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Textron Aviation Inc. (Type Certificate previously held by Beechcraft Corporation): Docket No. FAA-2020-0718; Product Identifier 2019-CE-045-AD.

(a) Comments Due Date

The FAA must receive comments by September 14, 2020.

(b) Affected ADs

None.

(c) Applicability

This AD applies to the Textron Aviation Inc. (type certificate previously held by Beechcraft Corporation) airplanes, certificated in any category, identified in table 1 to paragraph (c) of this AD:

Table 1 to Paragraph (c) of This AD—Applicability
Models | Serial numbers (S/Ns)
F90 | LA-2 through LA-225.
65-90, 65-A90, B90, C90 | All S/Ns.
H90 (T-44A) | LL-1 through LL-61.
E90 | LW-1 through LW-347.
65-A90-1 (JU-21A, U-21A, RU-21A, RU-21D, U-21G, RU-21H) | LM-1 through LM-144.
65-A90-2 (RU-21B) | LS-1, LS-2, LS-3.
65-A90-3 (RU-21C) | LT-1 and LT-2.
65-A90-4 (RU-21E, RU-21H) | LU-1 through LU-16.
99, 99A, 99A (FACH), A99, A99A, B99, C99 | U-1 through U-239.
100, A100 (U-21F) | B-1 through B-247.
B100 | BE-1 through BE-137.

(d) Subject

Joint Aircraft System Component (JASC): 5700, Wings.

(e) Unsafe Condition

This AD was prompted by information provided by Textron Aviation Inc. that a washer assembly may provide premature torque indication that could lead to cracking of the wing fitting. The FAA is issuing this AD to prevent such fatigue cracks. The unsafe condition, if not addressed, could result in failure of the forward lower wing fitting, which could lead to wing separation and loss of airplane control.

(f) Compliance

Comply with this AD within the compliance times specified below, unless already done.

(g) Action

(1) Within the next 200 flight hours after the effective date of this AD or within 12 months after the effective date of this AD, whichever occurs later, inspect each washer assembly attached to the left and right lower forward wing bolts and remove all part number 90-380058-1 washers in accordance with the Accomplishment Instructions, paragraphs 3 through 5, of Beechcraft Mandatory Service Letter MTL-57-01, Revision 1, dated September 19, 2018 (MTL-57-01). In all locations where a washer part number 90-380058-1 was removed, do the following:

(i) Inspect the bolt, nut, and fitting in accordance with the Accomplishment Instructions, paragraph 6, of MTL-57-01. If there is a crack in the fitting, replace the fitting before further flight.

(ii) Install a part number 90-380019-1 washer in accordance with the Accomplishment Instructions, paragraph 7, of MTL-57-01.

(2) As of the effective date of this AD, do not install washer part number 90-380058-1 on any airplane listed in table 1 to paragraph (c) of this AD.

(h) Alternative Methods of Compliance (AMOCs)

(1) The Manager, Wichita ACO Branch, FAA, has the authority to approve AMOCs for this AD, if requested using the procedures found in 14 CFR 39.19. Send information to ATTN: Brian C. Adamson, Aerospace Engineer, Wichita ACO Branch, AIR-7K3, FAA, 1801 Airport Rd, Wichita, KS 67209; phone: 316-946-4193; fax: 316-946-4107; email: brian.adamson@faa.gov or Wichita-COS@faa.gov. Before using any approved AMOC on any airplane to which the AMOC applies, notify your appropriate principal inspector (PI) in the FAA Flight Standards District Office (FSDO), or lacking a PI, your local FSDO.

(i) Related Information

(1) For more information about this AD, contact Brian C. Adamson, Aerospace Engineer, Wichita ACO Branch, AIR-7K3, FAA, 1801 Airport Rd, Wichita, KS 67209; phone: 316-946-4193; fax: 316-946-4107; email: brian.adamson@faa.gov or Wichita-COS@faa.gov.

(2) For service information identified in this AD, contact Textron Aviation Inc., PO Box 7706, Wichita, KS 67277: phone: 316-517-5800: internet: https://txtav.com/. You may view this service information at the FAA, Airworthiness Products Section, Operational Safety Branch, 901 Locust St, Kansas City, MO 64106. For information on the availability of this material at the FAA, call 816-329-4148.

Issued on July 22, 2020.
Lance T. Gant,
Director, Compliance & Airworthiness Division, Aircraft Certification Service.

[FR Doc. 2020-16214 Filed 7-28-20; 8:45 am]

BILLING CODE 4910-13-P